DEPARTMENT OF EDUCATION

National Institute on Disability and Rehabilitation Research; Notice of Proposed Long-Range Plan for Fiscal Years 2013-2017

AGENCY: Office of Special Education and Rehabilitative Services, Department of Education.

ACTION: Notice.

SUMMARY: The Assistant Secretary for Special Education and Rehabilitative Services proposes the National Institute on Disability and Rehabilitation Research's (NIDRR's) Long-Range Plan (Plan) for fiscal years (FYs) 2013 through 2017. Pursuant to the Rehabilitation Act of 1973, as amended, the Department is required to develop a plan for NIDRR that outlines NIDRR's priorities for rehabilitation research, demonstration projects, training, and related activities, and explains the basis for these priorities.

DATES: We must receive your comments on or before June 18, 2012.

ADDRESSES: Address all comments about the proposed Plan to Lynn Medley, U.S. Department of Education, 400 Maryland Avenue SW., Room 5140, Potomac Center Plaza, Washington, DC 20202-2700.

If you prefer to send your comments by email, use the following address: NIDRR-mailbox@ed.gov. You must include the term “Long-Range Plan” in the subject line of your electronic message.

FOR FURTHER INFORMATION CONTACT: Lynn Medley. Telephone: (202) 245-7338 or by email: Lynn.Medley@ed.gov.

If you use a telecommunications device for the deaf (TDD) or a text telephone (TTY), call the Federal Relay Service (FRS), toll free, at 1-800-877-8339.

SUPPLEMENTARY INFORMATION:

Invitation to Comment: We invite you to submit comments regarding the proposed Plan. To ensure that your comments have maximum effect in developing the final Plan, we urge you to identify clearly the specific area of the Plan that each comment addresses and to arrange your comments in the same order as the proposed Plan. We are particularly interested in comments on the establishment of the Rehabilitation Research Advisory Council (RRAC) described in the Introduction of the Plan.

During and after the comment period, you may inspect all public comments about the proposed Plan in Room 5140, 550 12th Street SW., Potomac Center Plaza (PCP), Washington, DC, between the hours of 8:30 a.m. and 4 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Background: In developing the research agenda in the proposed Plan, NIDRR considered: the legislative mandate for the Plan; stakeholder suggestions and public input received via email and the Internet in response to the notice of proposed Long Range Plan published in the Federal Register on January 15, 2009 (Vol. 74, No. 10); public responses to a January 15, 2009, email solicitation to NIDRR grantees, past grant applicants, disability organizations, and other interested parties inviting comment on the January 15, 2009, Federal Register notice of proposed Long Range Plan; research and program recommendations from NIDRR grantee state of the science conferences; an assessment and related recommendations by the National Academy of Sciences (NAS), National Research Council, of NIDRR's priority-setting, peer review, and grant mechanisms; and a review by NAS of the products of a sample of 30 NIDRR grantees (National Academy of Sciences (2012), Review of Disability and Rehabilitation Research: NIDRR Grantmaking Processes and Products, Washington, DC: National Academies Press).

The purposes of the proposed Plan are:

(1) To describe the broad general principles that will guide NIDRR's policies and use of resources;

(2) To establish objectives for research and related activities from which annual research priorities can be formulated; and

(3) To describe how NIDRR will implement the Plan, i.e., the process by which NIDRR establishes annual priorities.

The authority for the Secretary to establish the Plan is contained in section 202(h) of the Rehabilitation Act of 1973, as amended (29 U.S.C. 762(h)).

The proposed Plan is published as an attachment to this notice.

Accessible Format: Individuals with disabilities can obtain this document in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 13, 2012.
Alexa Posny,
Assistant Secretary for Special Education and Rehabilitative Services.

National Institute on Disability and Rehabilitation (NIDRR) Proposed Long-Range Plan for Fiscal Years (FYs) 2013 Through 2017

Preface

The introductory section of the National Institute on Disability and Rehabilitation Research (NIDRR) Long-Range Plan 2013-2017 (Plan) provides basic background about NIDRR and the proposed plan. The background explains NIDRR's mission, its intention for the Plan, and how the Plan will shape NIDRR's priorities. The second section of the Plan provides a brief summary of the Plan's proposed goals and objectives. The third section of the Plan provides background information about NIDRR's legislative mandate and purpose; NIDRR's applied approach to disability and rehabilitation research; how that approach is improving the lives of individuals with disabilities; and how NIDRR's proposed grant mechanisms will structure NIDRR's research and development programs. Section four of the Plan provides detail and explanation of NIDRR's proposed goals and objectives for the next five years.

I. Introduction

NIDRR has a broad and complex mission. NIDRR must support the generation of new knowledge and promote its effective use to (1) improve the abilities of individuals with disabilities to participate in community activities of their choice and (2) to enhance society's capacity to provide opportunities and accommodations for these individuals. NIDRR fulfills its mission through research, development, and related activities designed to contribute to the independence, inclusion, employment, health, and functioning of individuals of all ages with all types and degrees of disability. As the number of Americans with disabilities is projected to increase substantially over the next two decades, the importance of fulfilling NIDRR's mission will only grow (Institute of Medicine, 2007. The future of disability in America. Washington, DC: National Academies Press).

NIDRR's proposed Long-Range Plan (Plan) includes priorities, goals, and objectives that will enable stakeholders to understand and comment upon the direction that NIDRR proposes for FYs 2013 through 2017. NIDRR proposes to begin implementing all proposed goals at the beginning of FY 2013. Over the life of the Plan, NIDRR will further refine the Plan's priorities, goals, objectives, and timelines. These refinements will occur as the evolution of science and technology, the needs of individuals with disabilities, and the input of interested stakeholders dictate, and as the completion of the funding cycles of current centers and projects allow. Proposed refinements will be published on NIDRR's Web site for public comment and review. NIDRR further proposes to establish and to actively solicit the guidance of the broadly based Rehabilitation Research Advisory Council (RRAC), which is authorized under Title II section 205(a) of the Rehabilitation Act of 1973, as amended. The proposed RRAC would engage individuals with disabilities and, as appropriate, their representatives; community rehabilitation and service professionals, including providers of assistive technologies; rehabilitation researchers and engineers; and other stakeholders to offer NIDRR ongoing advice to ensure that NIDRR programs reflect the principles that NIDRR has proposed for them. The three principles that NIDRR proposes to guide the implementation of the Plan and the administration of its programs are balance, quality, and relevance.

Balance refers to the management of NIDRR's resource allocations across three dimensions: (1) Type of disability; (2) three outcome domains of individual well-being (i.e., employment, community living and participation, and health and function); and (3) whether NIDRR or the grant applicant defines the specific approach to a disability or rehabilitation research topic.

Quality refers to the scientific merit of the research and development activities, whatever the method employed, and the appropriateness of the methods to the topic, question, or problem being addressed.

Relevance refers to the likelihood that proposed research and development activities will make a substantial contribution to the well-being of individuals with disabilities, recognizing that the benefits of such activities may not always be direct or immediate.

NIDRR's peer review process will help increase the quality and relevance of NIDRR-funded research and development activities. NIDRR is committed to the goal that every eligible application for NIDRR funding will be reviewed by a knowledgeable and topically informed panel of experts in research methods, policy, services and supports, including individuals with disabilities or, as appropriate, family members.

NIDRR's priorities will be informed by assessments of the state of the science, policy and practice, the advice of the proposed RRAC, and the public's response to proposed priorities. NIDRR's portfolio of research and development activities will range from the identification of the needs and opportunities of individuals with disabilities to the widespread implementation of effective, evidence-based policies and practices that respond to those needs and opportunities. NIDRR recognizes that the development of effective, evidence-based policies and practices is as dependent on the exploratory stages of research as it is on experimental and quasi-experimental trials of potentially effective practices.

II. Summary of Plan's Proposed Goals and Objectives

NIDRR will maintain a balanced portfolio of high quality research and development centers and projects that address the most important problems and issues affecting individuals with disabilities and their families. As described further in the Plan, the following is a summary of NIDRR's proposed goals and objectives for FY 2013 through FY 2017.

Goal 1: Create a portfolio of research, development, and other activities that balances domains, populations of focus, and who, whether NIDRR or the grant applicant, defines the specific approach to a disability or rehabilitation research topic.

• Establish a balanced distribution of priorities focused on improved outcomes in the domains of employment, community living and participation, and health and function.

• Establish a balanced distribution of priorities to address the needs of individuals with different disabilities, personal characteristics, and social circumstances.

• Expand field-initiated research and development opportunities to support innovation.

Goal 2: Support centers and projects that conduct well-designed research and development activities using a range of appropriate methods.

• Adopt a stages-of-research paradigm that will enhance NIDRR's efforts to generate evidence-based practices.

• Support a variety of research methods as appropriate to the topics and research questions.

Goal 3: Promote the effective use of knowledge in areas of importance to individuals with disabilities and their families.

• Increase and improve the capabilities and activities of NIDRR research centers and projects to ensure the accessibility and effective use of their research.

• Increase NIDRR's and NIDRR-funded centers' and projects' use of input from stakeholders.

• Establish priorities that inform systems and policy development as well as interventions to improve individual outcomes.

• Support topics of relevance that cut across disability categories and NIDRR's three domains.

• Maintain ongoing investments that effectively address topics of importance to individuals with disabilities and their families.

Goal 4: Improve program administration

• Streamline NIDRR's processes for establishing and publishing priorities for grant competitions.

• Establish and implement a consistent schedule of competitions and peer reviews so that competition announcements are predictable for potential applicants and peer reviewers.

• Improve NIDRR's peer review processes.

III. Background

NIDRR was established by the 1978 amendments to the Rehabilitation Act of 1973, as amended (the Act). As specified in section 200 of the Act (29 U.S.C. 760), NIDRR's purpose is to: (a) Provide for research, demonstration projects, training, and related activities to maximize the full inclusion and integration into society, employment, independent living, family support, and economic and social self-sufficiency of individuals with disabilities of all ages, with particular emphasis on improving the effectiveness of services authorized under the Act; (b) provide for a comprehensive and coordinated approach to the support and conduct of research, demonstration projects, training, and related activities; (c) promote the transfer of rehabilitation technology to individuals with disabilities through research and demonstration projects; (d) ensure the widespread distribution, in usable formats, of practical scientific and technological information; (e) identify effective strategies that enhance the opportunities of individuals with disabilities to engage in employment, including employment involving telecommuting and self-employment; and (f) increase opportunities for researchers who are members of traditionally underserved populations, including researchers who are members of minority groups and researchers who are individuals with disabilities.

NIDRR is led by a Director within the Office of Special Education and Rehabilitative Services (OSERS) at the U.S. Department of Education. OSERS has two other components: The Rehabilitation Services Administration and the Office of Special Education Programs. NIDRR works closely with these offices as well as other disability-related offices and agencies across the Federal government.

NIDRR supports a wide range of rehabilitation research, development, and other activities designed to assist individuals with disabilities to achieve long-term outcomes such as independence, community participation, employment, and good health. To maximize its effectiveness in achieving such outcomes, NIDRR research and development activities focus on the complex interaction of personal, environmental, and supporting factors, including assistive technologies. In its practical and applied focus, NIDRR seeks to play a pivotal role in the relationship between the producers and consumers of knowledge.

The value of NIDRR's applied focus on research and development can be found in important advances in knowledge, practice, and public policies that have derived fully or partially from it. In recent years these have included, but have not been limited to the development of principles, standards, and applications of universal design; standards and applications to enhance accessibility of the World Wide Web and the design of accessibility features for information technology devices, such as computers and cell phones; widespread applications of technology to rehabilitation including telerehabilitation and national Internet-based workforce training systems; improved understanding and treatments of long-term consequences of spinal cord injury, burn injury, or traumatic brain injury; development of rehabilitation and community supports for individuals recovering from psychiatric conditions; understanding of the costs and outcomes of deinstitutionalization and the development of community supports for individuals with disabilities; better understanding of factors and practices contributing to the employment experience of individuals with disabilities; improvements in way finding and other mobility aides for individuals with cognitive or sensory conditions; and on-going analysis of national disability statistics to guide policy and practice. NIDRR is committed to maintaining its focus on practical applications of research, development, knowledge translation, capacity building, technical assistance, and information dissemination to improve the lives of individuals with disabilities and their families.

NIDRR currently employs nine mechanisms to make grant awards. Funding allocation within these mechanisms depends on the overall funding available to NIDRR, NIDRR's topical priorities for that year, and the size of the funding commitments for grants awarded in previous years. On average, about 25 percent of NIDRR's grants end each year. NIDRR's grant mechanisms include:

• Rehabilitation Research and Training Centers (RRTCs) conduct coordinated, advanced research to maximize health and function, promote maximum social and economic independence of individuals with disabilities, and improve rehabilitation methods or service delivery systems. RRTCs serve as national centers of excellence in research and as national resource centers.

• Rehabilitation Engineering Research Centers (RERCs) conduct programs of advanced engineering and technical research and development activities designed to create technological solutions for enhancing opportunities for individuals with disabilities, solving rehabilitation problems, and removing environmental barriers. RERCs provide for the cost-effective delivery and use of assistive technology devices.

• Disability and Rehabilitation Research Projects (DRRPs) emphasize a broad range of research and development projects, training, and knowledge translation on rehabilitation topics. DRRPs have ranged from collecting longitudinal data on spinal cord, traumatic brain, and burn injuries to studying the effects of health care coordination.

• Americans with Disabilities Act (ADA) National Network Regional Centers provide information, technical assistance, and training in areas related to the mandates of the ADA. These centers constitute a national network and assist disability organizations, individuals with disabilities, businesses, public agencies, and the general public in understanding, complying with, and fulfilling the purposes of the ADA.

• Model Systems in Spinal Cord Injury, Traumatic Brain Injury, and Burn Injury support three networks of centers providing model rehabilitation services and supports to individuals after injury. The Model Systems carry out intramural programs of research as well as a collaborative program of longitudinal research and dissemination.

• Field-Initiated Projects address rehabilitation issues in promising and innovative ways. As the name implies, topics for these projects are chosen by the applicants.

• Advanced Rehabilitation Research Training Projects support institutions of higher education to recruit qualified post-doctoral individuals with clinical, management, or basic research experience and prepare them for careers in disability and rehabilitation research.

• Switzer Research Fellowships give individual researchers opportunities to develop new ideas, gain research experience, and concentrate on specific lines of research. NIDRR supports Switzer Fellows for one year as they conduct independent research projects.

• Small Business Innovation Research (SBIR) grants, administered by NIDRR as a part of the larger mandatory Federal SBIR program, support the production of new assistive and rehabilitation technologies. This two-phase program takes a rehabilitation-related product from development toward market readiness.

NIDRR funds are awarded competitively on the basis of advice received through a peer review process to ensure the quality and integrity of the NIDRR portfolio. Researchers, methodologists, rehabilitation engineers, and other experts, including individuals with disabilities, serve on panels made up of three to seven individuals. These experts review proposals according to the selection criteria in the application package for the competition. NIDRR's peer review process is designed to ensure the scientific quality of NIDRR's portfolio, its contributions to the well-being of individuals with disabilities, and its responsiveness to the needs of the disability and rehabilitation communities. NIDRR continues to focus on improving the quality of its peer review process, including addressing the specific recommendations for the peer review process made in the November 2011 review of NIDRR by the National Academy of Science (NAS) (National Academy of Sciences/National Research Council (2011). Review of disability and rehabilitation research: NIDRR grantmaking processes and products. Washington, DC: National Academies Press.)

IV. Proposed Goals and Objectives

NIDRR will pursue the following proposed goals and objectives for FY 2013 through FY 2017.

Proposed Goal 1: NIDRR will create a portfolio of research, development, and other activities that is balanced in terms of domains, populations of focus, and who, whether NIDRR or the grant applicant, defines the specific approach to a disability or rehabilitation research topic.

Proposed Objective 1.1—NIDRR Will Establish a Balanced Distribution of Priorities Focused on Improved Outcomes in the Domains of Employment, Community Living and Participation, and Health and Function

One of the congressional findings in section 2(a)(3) of the Act states that, “disability is a natural part of the human experience and in no way diminishes the right of individuals to (A) live independently; (B) enjoy self-determination; (C) make choices; (D) contribute to society; (E) pursue meaningful careers; and (F) enjoy full inclusion and integration in the * * * mainstream of American society.” An individual's opportunity to enjoy such rights depends on an interaction between the individual and the physical and social environment. Within each of its domains, NIDRR will support research, development, and other activities that gather and use knowledge of systems, environments, individuals, and behaviors to support the fulfillment of such rights.

Employment

Employment and earnings are essential to independence, self-determination, and contribution to society. NIDRR will support centers and projects to address unemployment, underemployment, and unnecessary dependency on public benefits. NIDRR will support activities to improve opportunities for employment that are consistent with an individual's abilities, interests, and career aspirations. NIDRR will also support research and development activities that examine employment policies and practices, vocational rehabilitation services, and technologies and accommodations that contribute to improved employment and career outcomes for individuals with disabilities.

Community Living and Participation

NIDRR is committed to improving the opportunities and abilities of individuals with disabilities to live as integrated members of their communities and to participate in community activities of their choice. NIDRR will fund activities consistent with the underlying principles of the independent living programs authorized under the Act and the ADA as affirmed in the U.S. Supreme Court's Olmstead decision of 1999, Olmstead v. L.C., 527 U.S. 581 (1991). NIDRR will support centers and projects to increase community living and participation through improvements in policy, services and support delivery, assistive technologies, environmental modifications, and person-centered therapeutic interventions.

Health and Function

Maximizing health and function among people with disabilities is critical to achieving the goals of employment, community living and participation, and individual well-being across the lifespan. NIDRR will support centers and projects on health and function that improve understanding of the health status, health needs, and health care access of individuals with disabilities. These centers and projects will also develop and test interventions, including public policy interventions to improve health outcomes, increase or maintain functional abilities, and contribute to more effective medical rehabilitation and long-term services and supports, including integrated health and long-term service and support approaches.

Proposed Objective 1.2—NIDRR Will Establish a Balanced Distribution of Priorities To Address the Needs of Individuals With Different Disabilities, Personal Characteristics, and Social Circumstances

Rehabilitation Research and Training Centers—Centers of Excellence

NIDRR will establish RRTCs, as authorized in the Act, that will function as centers of excellence. In addition to being productive centers of relevant and well-designed research, these RRTCs will: (1) Serve as national resource centers for individuals with disabilities and their representatives, families, service providers, policymakers, and others; (2) serve as informational and technical assistance resources to individuals with disabilities and their representatives, families, service providers, policymakers, and others through conferences, workshops, public education programs, in-service training programs, and similar activities; and (3) serve as centers of data gathering, analysis, and knowledge translation to address systems and policy issues that affect individuals with disabilities of all ages.

The RRTCs will serve as centers of excellence addressing the needs of individuals of all ages with psychiatric, intellectual and developmental, and physical disabilities, as well as individuals with significant impairments of vision and hearing. These centers will identify practices associated with positive outcomes across NIDRR's domains and assess the status and effectiveness of programs and service systems in achieving positive outcomes.

NIDRR will also establish RRTC centers of excellence in such areas as the following:

• Vocational rehabilitation.

• Rural rehabilitation.

• Rehabilitation of individuals from minority backgrounds.

• Families with members with disabilities.

• Disability statistics.

Rehabilitation Engineering and Research Centers

NIDRR will establish RERCs to address the barriers confronted by individuals with disabilities in all aspects of their lives. To the maximum extent appropriate to the area of engineering, the RERCs will address the needs of a wide range of individuals with disabilities, including those with sensory and cognitive impairments, regarding the barriers they confront in employment, community living and participation, and health and function.

NIDRR will establish RERCs that will address priorities within the following four areas of rehabilitation engineering:

• Rehabilitation strategies, techniques and interventions.

• Information and communication technologies.

• Individual mobility and manipulation.

• Physical access and transportation.

Proposed Objective 1.3—NIDRR Will Expand Field-Initiated Research and Development Opportunities To Support Innovation

In order to take advantage of the field's expertise, knowledge, and creativity, NIDRR plans to provide an increased number of field-initiated opportunities for research, demonstration, and developing technological solutions to significant problems faced by individuals with disabilities. After consulting with the proposed RRAC, publishing the proposed priorities for comment, and considering those comments, NIDRR will publish final priorities that include broad topical areas for which applicants will have the discretion to define a specific approach. Applicants also may propose cross-domain projects that have the potential to make a substantial contribution to solving significant problems.

Proposed Goal 2: NIDRR will support centers and projects that conduct well-designed research and development activities using a range of appropriate methods.

Proposed Objective 2.1—NIDRR Will Adopt a Stages-of-Research Framework That Will Enhance Its Efforts To Generate Evidence-Based Practices

NIDRR will support a range of well-designed research methods using a stages-of-research framework. When inviting applicants to apply appropriate research methods to important research questions, NIDRR will require applicants to identify the stage of research appropriate to their proposed research and will evaluate that proposed research using selection criteria appropriate to that stage. NIDRR's framework will include the following stages of research:

Exploration

Exploration has the research objective of generating new and refined analyses of data, observational findings, and other sources of information to guide hypotheses and theories. Exploration seeks to advance the state of knowledge regarding the status of individuals with disabilities and the barriers to and facilitators of improved employment, community living and participation, health and function, and other outcomes for individuals with disabilities. This research stage may include identifying or describing existing practices, programs, policies, or circumstances that are associated with important aspects of the lives of individuals with disabilities, the needs of people with disabilities, or outcomes of services and supports provided to them. Results achieved under this research objective may be used to inform new lines of research related to practices, programs, or policies to inform decisions or priorities.

Intervention Development

Intervention development has the research objective of generating and testing interventions that have the potential to improve outcomes for individuals with disabilities. Intervention development involves determining the features of possible interventions that are most significant in achieving desired outcomes, measures that would be required to illustrate outcomes, specification of target populations, field tests, and assessment of the feasibility of conducting a well-designed interventions study. Results from this research objective may be used to inform the design of a study to test the efficacy of an intervention.

Intervention Efficacy

Intervention efficacy has the research objective of evaluating and testing whether the interventions are feasible, are practical, and can yield positive outcomes for individuals with disabilities. Efficacy research may assess the strength of an intervention, identify factors or individuals characteristics associated with outcomes, and inform decisions about whether there is sufficient evidence to support “scaling-up” an intervention to other sites and contexts. Issues addressed may include training needed for wide scale implementation and approaches to evaluation of the intervention in real world applications.

Scale-Up Evaluation

Scale-up evaluation has the research objective of evaluating whether interventions are effective in producing improved outcomes for individuals with disabilities when implemented in real-world settings. This research tests the outcomes of evidence-based practices operating in different settings. It examines the challenges to successful replications and the circumstances and activities that contribute to successful wide-scale adoption of interventions, programs, policies, and technologies. Research in this area may also include well-designed studies of interventions that have been widely adopted in practice, but lack a sufficient evidence-base on its effectiveness.

Proposed Objective 2.2—NIDRR Will Support a Variety of Research Methods as Appropriate to the Topics and Research Questioned

NIDRR will support quantitative and qualitative research methodologies, as well as research approaches that combine both methodologies. NIDRR will provide guidance on its expectations for the various research methods.

Proposed Goal 3: NIDRR will promote the generation and effective use of knowledge in areas of importance to individuals with disabilities and their families.

Proposed Objective 3.1—NIDRR Will Increase and Improve the Capabilities of NIDRR Research Centers and Projects To Ensure the Accessibility and Effective Use of Their Research

NIDRR will increase expectations for its research centers and projects to provide research-based knowledge and resources to individuals with disabilities and their families, service providers, and policymakers. NIDRR will support training, technical assistance, and knowledge translation activities to enhance the capabilities of individuals with disabilities, researchers, practitioners, and organizations and agencies to use the best available information in order to obtain desired outcomes for individuals with disabilities.

All of NIDRR's centers and projects will carry out knowledge translation activities. Knowledge translation promotes the use of research-based knowledge to support the ability of individuals to live successfully in society. Key components of knowledge translation are: requiring that grantees involve relevant stakeholders in the design and conduct of research activities to optimize the relevance and use of proposed outputs; using tools like systematic reviews and research synthesis to assess and disseminate the information generated through research; and translating research findings into information that is usable by individuals with disabilities and their families, practitioners, and policymakers.

Proposed Objective 3.2—NIDRR and NIDRR-Funded Centers and Projects Will Increase Their Use of Input From Stakeholders

In order to ensure that its centers and projects address important issues affecting individuals with disabilities and their families, NIDRR will develop and implement a process that continuously communicates with a wide range of stakeholders to share information about NIDRR's activities, solicit feedback on the impact of NIDRR's investments, obtain recommendations for research topics, and gather stakeholder input on NIDRR's long-range plans.

Rehabilitation Research Advisory Council

As authorized by section 205 of the Act and consistent with a recommendation in the 2012 National Academy of Sciences (NAS) review report, NIDRR proposes to establish the RRAC. The RRAC will advise NIDRR's Director about research priorities and the development and revision of its current and future Long range Plans.

Improved Use of Information Technology

NIDRR will continue to upgrade its use of information technology, including its Web site, in order to improve its information dissemination activities, increase its capacity to obtain input and feedback from stakeholders, and facilitate on-going discussions with and among NIDRR grantees, individuals with disabilities, and other stakeholders.

Proposed Objective 3.3—NIDRR Will Establish Priorities That Inform Systems and Policy Development as Well as Interventions To Improve Outcomes for Individuals

Across its three domains, NIDRR will support centers and projects that address systems and policy issues as well as interventions that directly improve outcomes for individuals with disabilities and their families. Across its employment, community living and participation, and health and functioning domains, NIDRR will support centers and projects that measure systems and policy effects, as well as the effects of interventions to directly improve outcomes for individuals with disabilities and their families.

Proposed Objective 3.4—NIDRR Will Support Topics of Relevance That Cut Across Disability Categories and NIDRR's Three Domains

NIDRR will support important projects that cut across disability categories or outcome domains when such projects are relevant, well-designed, and offer promise of significant benefit to multiple groups of individuals with disabilities and their families. Examples of these cross-cutting priorities will include, but may not be limited to, disability demographics and technology for access and function.

Disability Demographics

Valid and reliable demographic data help all agencies and research in the disability field. NIDRR will continue its work with other Federal agencies to meet its statutory mandate to collaborate in producing demographic and statistical data that describe the population of individuals with disabilities. NIDRR's disability demographics effort will generate and disseminate new and current information that can be used by individuals with disabilities, service providers, policymakers, and others working to identify and eliminate disparities in employment, community living and participation, and health and function.

Technology for Access and Function

For individuals with disabilities, technology plays a vital role by improving function and increasing access, thereby enhancing the ability to lead increasingly independent, secure, and productive lives. At the individual level, NIDRR will focus on assistive technology devices that enhance the physical, sensory, and cognitive abilities. At the systems level, NIDRR will emphasize applying technology research and development in ways that enhance community integration, independence, productivity, competitiveness, and equal opportunity by mitigating or eliminating barriers found in large social systems such as public transportation, telecommunications, information technology, and the built environment.

NIDRR will continue to support technology-related centers and projects to conduct research and development, with the end goal of transferring technology into commercialized or non-commercialized products that can be readily accessed and used to improve the lives of individuals with disabilities. NIDRR will continue to play a leadership role within the Federal government on accessibility of information and computer technologies.

Leadership in Cloud Computing

NIDRR is committed to ensuring access to and benefit from cloud computing for individuals with disabilities. It recognizes the existence of substantial international activity in this area, from which the individuals stand to benefit and to which the United States should contribute. NIDRR and its grantees will play leadership roles in national and international activities to ensure accessibility, and to exploit the potential of cloud computing to support the independence, employment, and functional capabilities of persons with disabilities. In its efforts NIDRR will support grantees working on cloud-based infrastructure and applications, and will work cooperatively across government agencies and with private entities to leverage the resources available for this important work.

Proposed Objective 3.5—NIDRR Will Maintain On-Going Investments That Effectively Address Topics of Importance To Individuals With Disabilities and Their Families

NIDRR has invested in a number of projects for many years. The value of these long-term investments is an important consideration as NIDRR plans for its future commitments. For example, NIDRR has supported projects that have created national rehabilitation and disability services databases, supported accessibility of the built environment and information technologies, as well as other nationally valued projects in other areas. On a project-by-project basis and with the input of the RRAC and other stakeholders, NIDRR will continue to support centers and projects in certain priority areas in which NIDRR has substantial long-term investments and that continue to contribute significantly to NIDRR's goals and objectives.

Proposed Goal 4: NIDRR will improve program administration.

Proposed Objective 4.1—NIDRR Will Streamline Processes for Establishing and Publishing Priorities for Grant Competitions

Historically, most of NIDRR's priorities have included a number of detailed required activities that demanded a great deal of time to develop and publish. As indicated in Objective 1.3 of the Plan, NIDRR will provide applicants with more field-initiated opportunities by issuing priorities for each domain that consist of broad topical areas and fewer specifically required activities. These topical areas will remain open for competition for up to five years. This will provide applicants with increased discretion to propose specific projects that fall within the topical areas and enhance NIDRR's ability to publish its funding priorities on a more-timely basis. In addition, because NIDRR staff will devote less time developing and publishing new priorities, they will have more time for providing technical assistance to their grantees, monitoring grants, and participating in cross-agency research and development activities.

Proposed Objective 4.2—NIDRR Will Establish and Implement a Regular Schedule of Competitions and Peer Reviews

The NAS review report noted that NIDRR has not established a regular schedule for publishing priorities, publishing notices inviting applications, or conducting peer review. An irregular schedule may negatively affect the ability of qualified applicants to submit proposals and limit the availability of expert reviewers. Consistent with the NAS recommendations, and aided by streamlining its priority development process, NIDRR will establish a regular schedule of competitions that potential applicants and peer reviewers can depend on for planning purposes. Having the topical areas in place for up to five years will provide the field with stable and reliable opportunities for funding, and applicants who are not successful in one competition can revise and improve their applications for future competitions under the same topic.

Proposed Objective 4.3—NIDRR Will Improve Its Peer Review Process

The NAS review report commented on NIDRR's peer review processes and made a number of recommendations for enhancement. Consistent with the NAS recommendations and ongoing quality improvement goals within NIDRR, during the next five years NIDRR will improve the following:

• Recruitment of qualified reviewers.

• Peer reviewer orientation.

• Review criteria and scoring.

• Stakeholder representation and support for these stakeholders to participate on review panels.

• Consistency across review panels.

A number of other changes will be explored by NIDRR as potential means of enhancing the ability of peer reviewers to carry out their responsibilities. These include, but are not limited to: (1) Establishing page limits for some or all NIDRR program applications; and (2) limiting the number of applications reviewed per panel with limits depending on the page limits of the applications.

V. Summary

With the adoption of this Plan, as refined by comments and suggestions from stakeholders and other parties, NIDRR believes it will be positioned to better reflect the principles of balance, quality, and relevance in its activities. This approach will make NIDRR more effective in fulfilling its role as a leading Federal agency in generating and promoting the use of knowledge to improve the lives of individuals with disabilities and their families.

[FR Doc. 2012-9365 Filed 4-17-12; 8:45 am]

BILLING CODE 4000-01-P